DEPARTMENT OF AGRICULTURE

Rural Business-Cooperative Service

Rural Housing Service

Rural Utilities Service

[Docket No. RUS-20-WATER-0032]

OneRD Annual Notice of Guarantee Fee Rates, Periodic Retention Fee Rates, Loan Guarantee Percentage and Fee for Issuance of the Loan Note Guarantee Prior to Construction Completion for Fiscal Year 2021; correction

AGENCY: Rural Business-Cooperative Service, Rural Housing Service, and Rural Utilities Service, USDA.

ACTION: Notice; correction.

SUMMARY: The Rural Business-Cooperative Service (RBCS), Rural Housing Service (RHS), and the Rural Utilities Service (RUS), agencies of the Rural Development mission area within the U.S. Department of Agriculture (USDA), published a document on Tuesday, September 1, 2020, announcing the Guarantee Fee rates, Guarantee percent for Guaranteed Loans, the Periodic Retention Fee, and Fee for Issuance of the Loan Note Guarantee Prior to Construction Completion for FY 2021, to be used when applying for guarantee loans under the aforementioned guarantee loan types. The document was missing a guarantee percentage specific to the State of Alaska and information regarding collection of the periodic guarantee retention fee.

FOR FURTHER INFORMATION CONTACT: For information specific to this notice contact Michele Brooks, Director, Regulations Management, Rural Development Innovation Center—Regulations Management, USDA, 1400 Independence Avenue SW, STOP 1522, Room 4266, South Building, Washington, DC 20250-1522. Telephone: (202) 690-1078. Email michele.brooks@wdc.usda.gov. For information regarding implementation contact your respective Rural Development State Office listed here: http://www.rd.usda.gov/browse-state.

SUPPLEMENTARY INFORMATION:

Correction

In the Federal Register of September 1, 2020, in FR Doc 2020-19288, on page 54344, the chart is corrected to read as follows:

Loan type | Guarantee fee (percentage) | Periodic guarantee retention fee (percentage) | Loan guarantee percentage | Fee for issuance of loan note guarantee prior to construction completion (percentage)
B&I | 3.0 | 0.5 | 80 | 0.5
B&I Reduced Fee | 1.0 | 0.5 | 80 | 0.5
A B&I project in a high cost, isolated rural area of the State of Alaska that is not connected to a road system | 1.0 | 0.5 | 90 | 0.5
CF | 1.5 | 0.5 | 80 | 0.5
REAP | 1.0 | 0.25 | 80 | 0.5
WWD | 1.0 | N/A | 80 | 0.5

On page 54344, in the first column, after the table, add the following sentence at the end of the first paragraph: “For loans where the Loan Note Guarantee is issued between October 1 and December 31, the first periodic retention fee payment is due January 31 of the second year following the date the Loan Note Guarantee was issued.”

Bette B. Brand,
Deputy Undersecretary, Rural Development.

[FR Doc. 2021-00005 Filed 1-6-21; 8:45 am]

BILLING CODE 3410-XY-P